FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than January 7, 2008.

A. Federal Reserve Bank of Atlanta (David Tatum, Vice President) 1000 Peachtree Street, N.E., Atlanta, Georgia 30309:

1. Floridian Financial Group, Inc., Daytona Beach, Florida; to acquire 100 percent of the voting shares of Orange Bank of Florida, Orlando, Florida.

B. Federal Reserve Bank of Chicago (Burl Thornton, Assistant Vice President) 230 South LaSalle Street, Chicago, Illinois 60690-1414:

1. Black River BancVenture, Inc., Memphis, Tennessee; to become a bank holding company by acquiring 42 percent of the voting shares of Michigan Community Bancorp, Ltd., and thereby indirectly acquire voting shares of Lakeside Community Bank, both of Sterling Heights, Michigan.

2. Black River BancVenture, Inc., Memphis, Tennessee; to acquire 15 percent of the voting shares of Community Shores Bank Corp., and thereby indirectly acquire voting shares of Community Shores Bank, both of Muskegon, Michigan.

3. Black River BancVenture, Inc., Memphis, Tennessee; to acquire 15 percent of the voting shares of Allegiance Bank of North America, Bala Cynwood, Pennsylvania.

4. Black River BancVenture, Inc., Memphis, Tennessee; to acquire 15 percent of the voting shares of Bay Commercial Bank, Walnut Creek, California.

5. Capitol Bancorp LTD, and Capital Development Bancorp Limited VII, both of Lansing, Michigan; to acquire 51 percent of the voting shares of Pisgah Community Bank, Asheville, North Carolina (in organization).

6. Capitol Bancorp LTD, and Capital Development Bancorp Limited VII, both of Lansing, Michigan; to acquire 51 percent of the voting shares of Colonia Bank, Phoenix, Arizona (in organization).

7. Capitol Bancorp LTD, and Capital Development Bancorp Limited VII, both of Lansing, Michigan; to acquire 51 percent of the voting shares of Reidsville Community Bank, Reidsville, North Carolina (in organization).

C. Federal Reserve Bank of Dallas (W. Arthur Tribble, Vice President) 2200 North Pearl Street, Dallas, Texas 75201-2272:

1. CSB Financial Corporation; to become a bank holding company by acquiring 100 percent of the voting shares of Citizens State Bank, both of Miles, Texas.

Board of Governors of the Federal Reserve System, December 10, 2007.
Robert deV. Frierson,
Deputy Secretary of the Board.

[FR Doc. E7-24141 Filed 12-12-07; 8:45 am]

BILLING CODE 6210-01-S